DEPARTMENT OF HEALTH AND HUMAN SERVICES

National Institutes of Health

National Institute of Mental Health; Notice of Meeting

Pursuant to section 10(a) of the Federal Advisory Committee Act, as amended (5 U.S.C. App.), notice is hereby given of a meeting of the Services Subcommittee of the Interagency Autism Coordinating Committee (IACC).

The Interagency Autism Coordinating Committee (IACC) Services Subcommittee will be holding a conference call on Monday, November 29, 2010. The subcommittee will discuss the IACC workshop on services and supports that was held on November 8, 2010 and begin work on a set of recommendations stemming from the workshop. This conference call will be open to the public.

Name of Committee: Interagency Autism Coordinating Committee (IACC)

Type of meeting: Services Subcommittee.

Date: November 29, 2010.

Time: 2 p.m. to 4 p.m. Eastern Time.

Agenda: To discuss the recommendations from the IACC workshop on services and supports that was held on November 8, 2010.

Place: No in-person meeting; conference call only.

Registration: No registration required.

Conference Call Access: Dial: 888-456-0356, Access code: 1427016.

Contact Person: Ms. Lina Perez, Office of Autism Research Coordination, National Institute of Mental Health, NIH, 6001 Executive Boulevard, NSC, 8185a, Rockville, MD 20852, Phone: 301-443-6040, E-mail: IACCPublicInquiries@mail.nih.gov.

Please Note: This conference call will be open to the public. Members of the public who participate using the conference call phone number will be able to listen to the discussion but will not be heard. If you experience any technical problems with the conference call, please-mail IACCTechSupport@acclaroresearch.com.

Individuals who participate in person or by using these electronic services and who need special assistance, such as captioning of the conference call or other reasonable accommodations, should submit a request to the Contact Person listed on this notice at least 7 days prior to the meeting.

Meeting schedule subject to change.

Information about the IACC and a registration link for this meeting are available on the Web site: http://www.iacc.hhs.gov.

Dated: November 2, 2010.
Jennifer S. Spaeth,
Director, Office of Federal Advisory Committee Policy.

[FR Doc. 2010-28151 Filed 11-5-10; 8:45 am]

BILLING CODE 4140-01-P